DEPARTMENT OF HOMELAND SECURITY

Federal Emergency Management Agency

[Docket ID: FEMA-2017-0017; OMB No. 1660-0135]

Agency Information Collection Activities: Proposed Collection; Comment Request; Staffing for Adequate Fire and Emergency Response (SAFER) Grants

AGENCY: Federal Emergency Management Agency, DHS.

ACTION: Notice.

SUMMARY: The Federal Emergency Management Agency (FEMA), as part of its continuing effort to reduce paperwork and respondent burden, invites the general public and other Federal agencies to take this opportunity to comment on a revision of a currently approved information collection. In accordance with the Paperwork Reduction Act of 1995, this notice seeks comments concerning the application for the Staffing for Adequate Fire and Emergency Response (SAFER) Grants program. The SAFER program provides funding for the hiring of new firefighters and the recruitment and retention of volunteer firefighters.

DATES: Comments must be submitted on or before July 11, 2017.

ADDRESSES: To avoid duplicate submissions to the docket, please use only one of the following means to submit comments:

(1) Online. Submit comments at www.regulations.gov under Docket ID FEMA-2017-0017. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: William Dunham, Fire Program Specialist, FEMA, Grant Program Directorate, 202-786-9813. You may contact the Records Management Division for copies of the proposed collection of information at email address: FEMA-Information-Collections-Management@fema.dhs.gov.

SUPPLEMENTARY INFORMATION: The Federal Fire Prevention and Control Act of 1974 (15 U.S.C. 2201 et seq.), as amended authorizes FEMA to comprise the submission of applications for the SAFER grants. The information collected is grant application information that is necessary to assess the needs of the applicants as well as the benefits to be obtained from the use of funds. The information collected through the program's application is the minimum necessary to evaluate grant applications and is necessary for FEMA to comply with mandates delineated in the law.

Collection of Information

Title: Staffing for Adequate Fire and Emergency Response (SAFER) Grants.

Type of Information Collection: Revision of a currently approved information collection.

OMB Number: 1660-0135.

FEMA Forms: FEMA Form 080-0-4, Staffing for Adequate Fire and Emergency Response (SAFER) (General Questions All Applicants); FEMA Form 080-0-4a, Staffing for Adequate Fire and Emergency Response Hiring of Firefighters Application (Questions and Narrative); FEMA Form 080-0-4b, Staffing for Adequate Fire and Emergency Response Recruitment and Retention of Volunteer Firefighters Application (Questions and Narrative); FEMA Form 087-0-0-2, Staffing for Adequate Fire and Emergency Response Quarterly Report and Payment Request Form.

Abstract: FEMA uses this information to ensure that FEMA's responsibilities under the legislation can be fulfilled accurately and efficiently. The information will be used to objectively evaluate each of the anticipated applicants to determine which of the applicants' proposals in each of the activities are the closest to the established program priorities.

Affected Public: State, Local or Tribal Government; Not-for-Profit Institutions.

Number of Respondents: 2,330.

Number of Responses: 2,990.

Estimated Total Annual Burden Hours: 18,064 hours.

Estimated Cost: The estimated annual cost to respondents for the hour burden is $984,437.20. There are no annual costs to respondents operations and maintenance costs for technical services. There is no annual start-up or capital costs. The cost to the Federal Government is $1,666,213.80.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 8, 2017.
Tammi Hines,
Records Management Program Chief (Acting), Mission Support, Federal Emergency Management Agency, Department of Homeland Security.

[FR Doc. 2017-09601 Filed 5-11-17; 8:45 am]

BILLING CODE 9111-46-P